NATIONAL SCIENCE FOUNDATION

Agency Information Collection Activities: Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 68 FR 12107 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding: (a) Whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send email to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Survey of IGERT recipients.

OMB Control No.: 3145-NEW.

The Integrative Graduate Education and Research Traineeship (IGERT) program was initiated in 1997 and now comprises approximately 100 award sites. The IGERT program has been developed to meet the challenges of educating U.S. Ph.D. scientists, engineers, and educators with the interdisciplinary backgrounds, deep knowledge in chosen disciplines, and technical, professional, and personal skills to become in their own careers the leaders and creative agents for change. The program is intended to catalyze a cultural change in graduate education, for students, faculty, and institutions, by establishing innovative new models for graduate education and training in a fertile environment for collaborative research that transcends traditional disciplinary boundaries. It is also intended to facilitate greater diversity in student participation and preparation, and to contribute to the development of a diverse, globally-engaged science and engineering workforce. As part of this endeavor, IGERT awardees are expected to integrate instruction in ethics and the responsible conduct of research into their training programs. However, no mechanism is currently in place to determine: (1) Whether such instruction occurs once the award is made, and (2) whether such instruction meets its goals. Thus, the NSF would like to survey IGERT recipients to answer the above questions.

Proposed Project

IGERT awardees will be invited, via email correspondence, to access a web-based survey document by a given date. This survey encompasses 22 questions, some with multiple parts, and is designed to assess the presence and relative strengths and weaknesses of any ethics training programs offered as part of the IGERT program at the awardee's institution.

Use of the Information: The results of the survey will be used to update Program Announcements and annual report requirements to reflect NSF's desire to promote the development of ethically trained scientists. Any additional reports developed with the survey results will be distributed to all IGERT awardees.

Estimate of Burden: 60 minutes per respondent, for 100 respondents, totaling 100 hours.

Respondents: Individuals.

Estimated Number of Responses per Report: 1.

Dated: June 24, 2003.
Suzanne H. Plimpton,
Reports Clearance Officer, National Science Foundation.

[FR Doc. 03-16344 Filed 6-26-03; 8:45 am]

BILLING CODE 7555-01-M